DEPARTMENT OF HEALTH AND HUMAN SERVICES

Office of the Secretary

Office of the Assistant Secretary for Health, Statement of Organization, Functions, and Delegations of Authority

Part A, Office of the Secretary, Statement of Organization, Function, and Delegation of Authority for the U.S. Department of Health and Human Services is being amended at Chapter AC, Office of the Assistant Secretary for Health (OASH), as last amended at 77 FR 2012-12173, dated May 18, 2012; 75 FR 53304-05, dated August 31, 2010; 72 FR 58095-96, dated October 12, 2007; 69 FR 660-661, dated January 6, 2004; 68 FR 70507-10, dated December 18, 2003; and 67 FR 71568-70, dated December 2, 2002. The amendment reflects the realignment of personnel oversight, administration and management functions for the U.S. Public Health Service (PHS) Commissioned Corps in the OASH. Specifically, it transfers functions performed by the Office of the Assistant Secretary for Administration, Program Support Center, Administrative Operations Service, Office of Commissioned Corps Support Services to the Office of the Surgeon General (ACM). The changes are as follows:

I. Under Part A, Chapter AC, Office of the Assistant Secretary for Health, make the following changes:

A. Under Section AC.20, Functions, “I. Office of Surgeon General (ACM), Section ACM.20 Functions, (c) Division of Commissioned Corps Personnel and Readiness (ACM2), 3. Assignments & Career Management Branch (ACM23)” add the following functions, beginning with (13) through (22):

3. Assignments and Career Management Branch (ACM23). (13) Administers a payroll system for active duty Commissioned Corps officers of basic pay, allowances, and special or incentive pay in coordination with the Departments of Defense, Veterans Affairs, and Treasury; (14) Administers a pay system for retired Commissioned Corps officers and survivor annuitants in coordination with the Departments of Veterans Affairs and Treasury; (15) Administrative management of active duty Commissioned Corps officer healthcare and support for healthcare authorization and access to care; (16) Provides pre-retirement counseling, conducts retirement boards, determines eligibility for retirement, processes retirements, and recalls retirees to active duty; (17) Administration of periodic, separation and retirement health evaluations; (18) Review and award of Combat-Related Special Pay, Servicemembers' Group Life Insurance Traumatic Injury Protection Program, and Line of Duty determinations; (19) Management and support of ongoing medical and behavioral health challenges among active duty officers; (20) Management of fitness for duty and disability evaluations and determinations; (21) Administration of medical waiver evaluations and issuances; and (22) Management of Medical Evaluation and Appeal Boards.

B. Under Section AC.20, Functions, “I. Office of Surgeon General (ACM), Section ACM.20 Functions, (e) Division of Systems Integration (ACM6), add the following functions, beginning with (4) through (9):

(e) Division of Systems Integration (ACM6). (4) Certifies monthly Commissioned Corps payroll to Treasury; (5) Administers supplemental and third-party payments to Treasury; (6) Reviews payroll reports, identifies potential payroll-related issues, and validates the monthly Commissioned Corps payroll; (7) Provides data reporting and data extracts to HHS and other governmental organizations and agencies; (8) Maintains Commissioned Corps personnel data systems and ensures integrity and availability of personnel and operational data; and (9) Maintains Commissioned Corps Web sites and ensures 508 compliance.

II. Continuation of Policy: Except as inconsistent with this reorganization, all statements of policy and interpretations with respect to the Commissioned Corps of the PHS heretofore issued and in effect prior to this reorganization are continued in full force and effect.

III. Delegations of Authority. Directives and orders of the Secretary, Assistant Secretary for Health, or Surgeon General and all delegations and re-delegations of authority previously made to officials and employees of the affected organizational components will continue in them or their successors pending further re-delegation, provided they are consistent with this reorganization. All delegated authorities associated with or necessary to administer, operate, and manage transferred entities affected by this reorganization are transferred to the Assistant Secretary for Health and may be re-delegated.

IV. Funds, Personnel, and Equipment. Transfer of organizations and functions affected by this reorganization shall be accompanied by direct and support funds, positions, personnel, records, equipment, supplies, and other resources.

Dated: September 21, 2012.
E.J. Holland, Jr.,
Assistant Secretary for Administration.

[FR Doc. 2012-24564 Filed 10-4-12; 8:45 am]

BILLING CODE 4150-28-P